DEPARTMENT OF LABOR

Employment and Training Administration

[TA-W-55,754A, TA-W-55,754E, TA-W-55,754F, TA-W-55,754G]

Dan River, Inc., 1325 Avenue of the Americas, New York, NY, Dan River, Inc., Dallas, TX; Dan River, Inc., Lake Forest, IL; Dan River, Inc., Hickory, NC; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on November 5, 2004, applicable to workers of Dan River, Inc., 1325 Avenue of The Americas, New York, New York. The notice was published in the Federal Register on December 9, 2004 (69 FR 71429). The certification was amended on February 16, 2005 to include workers at other locations of the subject firm. The notice was published in the Federal Register on March 9, 2005 (70 FR 11700-11701).

At the request of a company official, the Department reviewed the certification for workers of the subject firm. New information shows that workers located in Dallas, Texas, Lake Forest, Illinois, and Hickory, North Carolina, reporting to Dan River, Inc., 1325 Avenue of The Americas, New York, New York, have been separated from employment. These employees provided support services for the production of home furnishing textiles and apparel fabric produced by Dan River, Inc.

Based on these findings, the Department is amending this certification to include employees of Dan River, Inc., 1325 Avenue of the Americas, New York, New York, located in Dallas, Texas, Lake Forest, Illinois and Hickory, North Carolina.

The intent of the Department's certification is to include all workers of Dan River, Inc. who were adversely affected by a shift in production to China and Mexico.

The amended notice applicable to TA-W-55,754A is hereby issued as follows:

• “All workers of Dan River, Inc., 1325 Avenue of The Americas, New York, New York (TA-W-55,754A), and employees of Dan River, Inc., 1325 Avenue of The Americas, New York, New York, located in Dallas, Texas (TA-W-55,754E), Lake Forest, Illinois (TA-W-55,754F), and Hickory, North Carolina (TA-W-55,754G), who became totally or partially separated from employment on or after October 8, 2003, through November 5, 2006, are eligible to apply for adjustment assistance under Section 223 of the Trade Act of 1974, and are also eligible to apply for alternative trade adjustment assistance under Section 246 of the Trade Act of 1974.”

Signed at Washington, DC this 21st day of October 2005.
Linda G. Poole,
Certifying Officer, Division of Trade Adjustment Assistance.

[FR Doc. E5-6123 Filed 11-3-05; 8:45am]

BILLING CODE 4510-30-P